DEPARTMENT OF TRANSPORTATION

Federal Aviation Administration

Notice of Opportunity for Public Comment on Disposal of 41.63 Acres of Airport Land at Igor Sikorsky Memorial Airport in Stratford, CT

AGENCY: Federal Aviation Administration (FAA), DOT.

ACTION: Request for public comments.

SUMMARY: Notice is being given that the FAA is considering a request from the City of Bridgeport in Bridgeport, CT, to dispose of a 33.98 acre parcel and 7.65 acre parcel of airport land that were identified for disposal in the Runway Safety Area Project Igor Sikorsky Memorial Airport Intergovernmental Agreement (“Intergovernmental Agreement”) at Igor Sikorsky Memorial Airport dated November, 2012 and signed April 17, 2013 by the Town of Stratford, City of Bridgeport, Connecticut Department of Transportation, Connecticut Office of Policy and Management, and the Federal Aviation Administration.

There are two subject parcels identified in the Intergovernmental Agreement. The first property is the Long Beach Parcel that is located to the southwest of the end of Runway 6 and is 33.98 acres. The second property known as Parcel 16, is located to the northwest of Runway 11 and is 7.65 acres. The two parcels will be transferred to the Town of Stratford, CT at a fair market value of $486,600. The parcels will be transferred with easements to protect the airport. Given the location of the two parcels, the disposal of this property will have no effect on aviation land nor future development opportunities for the airport. The proceeds of the disposal, per the Intergovernmental Agreement, will be used to reduce the overall Runway Safety Area project grant amount and fund a portion of the City's match for the Runway Safety Area project.

DATES: Comments must be received on or before April 24, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on January 25, 2017.
Mary T. Walsh,
Manager.

[FR Doc. 2017-05888 Filed 3-23-17; 8:45 am]

BILLING CODE 4910-13-P